DEPARTMENT OF COMMERCE

International Trade Administration

Civil Nuclear Trade Advisory Committee

AGENCY: International Trade Administration, Industry and Analysis, Department of Commerce.

ACTION: Notice of renewal of the Civil Nuclear Trade Advisory Committee and solicitation of nominations for membership.

SUMMARY: Pursuant to provisions of the Federal Advisory Committee Act, as amended (FACA), the Department of Commerce (Department) announces the renewal of the Civil Nuclear Trade Advisory Committee (CINTAC or Committee) and requests nominations for membership. The purpose of the CINTAC is to provide advice to the Secretary of Commerce (Secretary) regarding the development and administration of programs to expand U.S. exports of civil nuclear goods and services in accordance with applicable U.S. laws and regulations, which will be used by the Department in its role as a member of the Civil Nuclear Trade Working Group of the Trade Promotion Coordinating Committee and of the TeamUSA interagency group to promote U.S. civil nuclear trade.

DATES: Nominations for members must be received on or before 5:00 p.m. Eastern Daylight Time (EDT) on September 6, 2024. After that date, the International Trade Administration (ITA) may continue to accept nominations under this notice to fill any vacancies that may arise.

ADDRESSES: Nominations may be emailed to jonathan.chesebro@trade.gov.

FOR FURTHER INFORMATION CONTACT: Jonathan Chesebro, Senior Nuclear Trade Specialist, Office of Energy & Environmental Industries, U.S. Department of Commerce; telephone: (202) 603-4968; email: jonathan.chesebro@trade.gov.

SUPPLEMENTARY INFORMATION:

I. Background and Authority

The CINTAC was established on August 13, 2008, pursuant to the Department of Commerce authority under 15 U.S.C. 1512 and the Federal Advisory Committee Act, as amended (FACA), 5 U.S.C. 1001 et seq. The CINTAC functions solely as an advisory committee in accordance with the provisions of FACA. The CINTAC provides advice to the Secretary of Commerce regarding the development and administration of programs to expand U.S. exports of civil nuclear goods and services which will be used by the Department in its role as a member of the Civil Nuclear Trade Working Group of the Trade Promotion Coordinating Committee and as a member of the TeamUSA interagency group to promote U.S. civil nuclear trade. In particular, the Committee advises on matters including, but not limited to:

(1) Matters concerning trade policy development and negotiations relating to U.S. civil nuclear exports;

(2) The effect of U.S. Government policies, regulations, programs, and foreign government policies and practices on the export of U.S. civil nuclear goods and services;

(3) The competitiveness of U.S. industry and its ability to compete for civil nuclear products and services opportunities in international markets, including specific problems in exporting, and provide specific recommendations regarding U.S. Government and public/private actions to assist civil nuclear companies in expanding their exports;

(4) The identification of priority civil nuclear products and services markets with the potential for high immediate returns for U.S. exports, as well as emerging markets with a longer-term potential for U.S. exports;

(5) Strategies to increase private sector awareness and effective use of U.S. Government export promotion programs, and recommendations on how U.S. Government programs may be more efficiently designed and coordinated;

(6) The development of complementary industry and trade association export promotion programs, including ways for greater and more effective coordination of U.S. Government efforts with private sector organizations' civil nuclear industry export promotion efforts; and

(7) The development of U.S. Government programs to encourage producers of civil nuclear products and services to enter new foreign markets, in connection with which CINTAC may advise on how to gather, disseminate, and promote awareness of information on civil nuclear exports and related trade issues.

II. Membership

CINTAC shall consist of approximately 40 members appointed by the Secretary, in accordance with applicable Department of Commerce guidance and based on their ability to carry out the objectives of the Committee. Members shall represent U.S. entities involved in the export of civil nuclear products and services and reflect the diversity of this sector, including in terms of entities' size, geographic location, and subsector. The Committee shall also represent the diversity of company or organizational roles in the development of civil nuclear energy projects, including, for example, U.S. civil nuclear manufacturing and services companies, U.S. utilities, U.S. trade associations, civil society groups, and other U.S. organizations in the U.S. civil nuclear sector. Members will be selected based on their ability to carry out the objectives of the CINTAC, in accordance with applicable Department of Commerce guidelines. In selecting members, priority will be given to the selection of executives, i.e., Chief Executive Officer, Executive Chairperson, President, or an officer with a comparable level of responsibility. The diverse membership of the Committee assures perspectives reflecting the breadth of the Committee's responsibilities, and, where possible, the Department will also consider the ethnic, racial, gender, sexual orientation, and gender identity diversity and various abilities of the United States population. The Department is committed to achieving diversity in the membership of the Council to the maximum extent permitted by law consistent with the need for balanced industry representation. The Department may seek additional nominations as necessary to attain membership balance and demographic diversity. The Secretary shall appoint to the Committee at least one individual representing each of the following:

a. civil nuclear manufacturing and services companies;

b. small businesses;

c. utilities;

d. trade associations in the civil nuclear sector;

e. research institutions and universities; and

f. private sector organizations or other appropriate civil society groups, such as labor representatives, involved in strengthening the export competitiveness of U.S. civil nuclear products and services.

Members shall serve in a representative capacity, expressing the views and interests of a U.S. entity or organization, as well as its particular subsector; they are, therefore, not Special Government Employees as defined in Title 18 of the United States Code, section 202(a). Each member of the Committee must be a U.S. citizen and must not be registered as a foreign agent under the Foreign Agents Registration Act. No member may represent a U.S. company that is majority owned or controlled by a foreign government entity (or foreign government entities). The Secretary of Commerce invites applications for the CINTAC, consistent with the above membership requirements. To be considered for membership, submit the following information (2 pages maximum) by 5:00 p.m. EDT on September 6, 2024, to the email listed in the ADRRESSES section. If you are interested in nominating someone to become a member of the CINTAC, please provide the following information (2 pages maximum):

(1) Name;

(2) Title;

(3) Work phone and email address;

(4) Name of entity to be represented and address including website address;

(5) Short biography of nominee including credentials;

(6) Brief description of the entity and its business activities, size (number of employees and annual sales), and export markets served; and,

(7) An affirmative statement that the applicant and entity to be represented meet all eligibility criteria, specifically addressing that the applicant:

(a) Is a U.S. citizen; and

(b) Is not required to register as a foreign agent under the Foreign Agents Registration Act of 1938, as amended.

Please do not send organization brochures or any other information.

All applications should be submitted in PDF or MS Word format via email to Jonathan Chesebro, Lead Nuclear Trade Specialist at the U.S. Department of Commerce's Office of Energy & Environmental Industries at jonathan.chesebro@trade.gov.

Nominees selected for appointment to the Committee will be notified by email.

Privacy Act Statement

The collection, maintenance, and disclosure of applicant information is governed by the Privacy Act of 1974 (5 U.S.C. 552a). The Department of Commerce is authorized to collect this information pursuant to authorities that include, but are not limited to, the Federal Advisory Committee Act, as amended (FACA), 5 U.S.C. chapter 10. The principal purpose for which the Department will use the information is to assist in choosing members of the Civil Nuclear Trade Advisory Committee (CINTAC). Information received will be maintained in a Privacy Act system of records, COMMERCE/DEPT-11, entitled “Candidates for Membership, Members, and Former Members of Department of Commerce Advisory Committees.” A notice describing that system, including a complete set of routine disclosures, has been published both in the Federal Register and on the Department's website at: https://www.commerce.gov/opog/privacy/SORN/SORN-DEPT-11. Although providing this information is voluntary, an individual cannot be considered for membership without an application submission, whether self-nominated or nominated by someone else.

Man K. Cho,
Deputy Director, Office of Energy and Environmental Industries.

[FR Doc. 2024-18623 Filed 8-19-24; 8:45 am]

BILLING CODE 3510-DR-P